DEPARTMENT OF THE TREASURY

Customs Service

Retraction of Revocation Notice

AGENCY: Customs Service, Department of the Treasury.

ACTION: General Notice.

SUMMARY: The following Customs broker license was erroneously included in a list of revoked Customs broker licenses.

Tisha Goss, 16852, issued through the Port of Cleveland

This Customs broker license, number 16852, remains valid.

Dated: March 8, 2002.
Bonni G. Tischler,
Assistant Commissioner, Office of Field Operations.

[FR Doc. 02-7535 Filed 3-28-02; 8:45 am]

BILLING CODE 4820-02-P